DEPARTMENT OF HEALTH AND HUMAN SERVICES

Administration on Aging

Agency Information Collection Activities; Submission for OMB Review; Comment Request; State Program Report

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by May 14, 2010.

ADDRESSES: Submit written comments on the collection of information by fax 202.395.6974 to the OMB Desk Officer for AoA, Office of Information and Regulatory Affairs, OMB.

FOR FURTHER INFORMATION CONTACT: Valerie Cook at 202-357-3583

SUPPLEMENTARY INFORMATION: In compliance with 44 U.S.C. 3507, AoA has submitted the following proposed collection of information to OMB for review and clearance.

The Older Americans Act (OAA) requires annual program performance reports from States. In compliance with this OAA provision, AoA developed a State Program Report (SPR) in 1996 as part of its National Aging Program Information System (NAPIS). The SPR collects information about how State Agencies on Aging expend their OAA funds as well as funding from other sources for OAA authorized supportive services. The SPR also collects information on the demographic and functional status of the recipients, and is a key source for AoA performance measurement. This collection includes minor revisions of the format from the 2006 approved version. The proposed revised version will be in effect for the FY 2011 reporting year and thereafter, while the current reporting, OMB Approval Number 0985-0008, will be extended to the end of the FY 2010 reporting cycle. The proposed FY 2011 version may be found on the AoA web site link entitled Proposed SPR for Review available at http://www.aoa.gov/AoARoot/Program_Results/docs/SPR-Draft_form_2010_draft.pdf.

AoA estimates the burden of this collection of information as follows: 2,828 hours

Dated: April 8, 2010.
Kathy Greenlee,
Assistant Secretary for Aging.

[FR Doc. 2010-8482 Filed 4-13-10; 8:45 am]

BILLING CODE 4154-01-P